NUCLEAR REGULATORY COMMISSION

Sunshine Act Meeting

AGENCY HOLDING THE MEETING: Nuclear Regulatory Commission.

DATE: Weeks of September 11, 18, 25, October 2, and 9, 2000.

PLACE: Commissioners' Conference Room, 11555 Rockville Pike, Rockville, Maryland.

STATUS: Public and Closed.

MATTERS TO BE CONSIDERED:

Week of September 11

Wednesday, September 13

9:30 a.m.

Affirmation Session (Public Meeting)

a: Final Rules—10 CFR Part 35, “Medical Use of Byproduct Material” and 10 CFR Part 20, “Standards for Protection Against Radiation” (Tentative)

b: Final Rule: “Adjustment of Civil Monetary Penalties”; Proposed Revision to the Enforcement Policy to Conform to the Final Rule Adjusting Civil Monetary Penalties and Minor Administrative Changes to Parts 1 and 13

Week of September 18—Tentative

There are no meetings scheduled for the Week of September 18.

Week of September 25—Tentative

Friday, September 29

9:25 a.m.

Affirmation Session (Public Meeting) (If needed)

9:30 a.m.

Briefing on Risk-Informing Special Treatment Requirements (Public Meeting) (Contact: Tim Reed, 301-415-1462). This meeting will be webcast live at the Web address www.nrc.gov/live.html.

1:30 p.m.

Briefing on Threat Environment Assessment (Closed-Ex. 1)

Week of October 2—Tentative

Friday, October 6

9:25 a.m.

Affirmation Session (Public Meeting) (If needed)

9:30 a.m.

Meeting with ACRS (Public Meeting) (Contact: John Larkins, 301-415-7360)

Week of October 9—Tentative

There are no meetings scheduled for the Week of October 9.

Note: The schedule for Commission meetings is subject to change on short notice. To verify the status of meetings call (recording)—(301) 415-1292.

CONTACT PERSON FOR MORE INFORMATION: Bill Hill (301) 415-1661.

The NRC Commission Meeting Schedule can be found on the Internet at: http://www.nrc.gov/SECY/smj/schedule.htm.

This notice is distributed by mail to several hundred subscribers; if you no longer wish to receive it, or would like to be added to it, please contact the Office of the Secretary, Attn: Operations Branch, Washington, DC 20555 (301-415-1661). In addition, distribution of this meeting notice over the Internet system is available. If you are interested in receiving this Commission meeting schedule electronically, please send an electronic message to wmh@nrc.gov or dkw@nrc.gov.

Dated: September 8, 2000.
William M. Hill, Jr.,
SECY Tracking Officer, Office of the Secretary.

[FR Doc. 00-23561 Filed 9-8-00; 4:40 pm]

BILLING CODE 9590-01-M